DEPARTMENT OF HEALTH AND HUMAN SERVICES

Health Resources and Services Administration

Notice of Supplemental Funding; National Rural Health Information Clearinghouse Program

AGENCY: Health Resources and Services Administration (HRSA), Department of Health and Human Services.

ACTION: Notice of supplemental funding.

SUMMARY: HRSA provided supplemental funds to the National Rural Health Information Clearinghouse Program recipient, University of North Dakota, to develop toolkits and other resources that address strategies to promote rural community health and support the improvement of health care in rural areas.

FOR FURTHER INFORMATION CONTACT: Sarah Scott, Federal Office of Rural Health Policy, HRSA, at sscott2@hrsa.gov and 301-287-2619.

SUPPLEMENTARY INFORMATION:

Intended Recipient of the Award: University of North Dakota.

Amount of Non-Competitive Award: One award for $782,000.

Project Period: June 1, 2020, through May 31, 2025.

Assistance Listing (CFDA) Number: 93.223.

Award Instrument: Cooperative Agreement Supplement for Services.

Authority: Section 711 of the Social Security Act (42 U.S.C. 912).

Table 1—Recipients and Award Amounts
Grant number | Award recipient name | City, State | Award amount
U56RH05539 | University of North Dakota | Grand Forks, ND | $782,000

Justification: This supplement allows the University of North Dakota to build on past and ongoing projects to improve health care in rural areas by advancing the knowledge base regarding strategies to support and enhance rural community health. The University of North Dakota has longstanding experience developing resources like toolkits and webinars to support a broad range of rural health topics. The supplement will allow the University of North Dakota to create new toolkits and resources on important topics related to rural community health and health care.

Diana Espinosa,
Principal Deputy Administrator.

[FR Doc. 2024-27099 Filed 11-19-24; 8:45 am]

BILLING CODE 4165-15-P